SMALL BUSINESS ADMINISTRATION

Advisory Committee on Veterans Business Affairs; Public Meeting

The U.S. Small Business Administration (SBA), pursuant to the Veterans Entrepreneurship and Small Business Development Act of 1999 (Pub. L. 106-50), SBA Advisory Committee on Veterans Business Affairs will host a public meeting on Tuesday, January 8, 2008 starting at 9 a.m. until 5 p.m. The meeting will be held at the U.S. Small Business Administration, 409 3rd Street, SW., Washington, DC 20416, Eisenhower's Conference Room, Side B, 2nd Floor.

The purpose for this meeting is to examine issues pertaining to SBA's programs and outreach services for veterans and service-disabled veterans. Anyone wishing to attend must contact Cheryl Clark, Program Liaison, in the Office of Veterans Business Development at (202) 205-6773 or send an e-mail to cheryl.clark@sba.gov.

Cherylyn Lebon,
Committee Management Officer.

[FR Doc. E8-484 Filed 1-14-08; 8:45 am]

BILLING CODE 8025-01-P